DEPARTMENT OF TRANSPORTATION

Federal Aviation Administration

14 CFR Part 39

[Docket No. FAA-2010-0225; Directorate Identifier 2009-NM-203-AD; Amendment 39-16525; AD 2010-24-06]

RIN 2120-AA64

Airworthiness Directives; Short Brothers PLC Model SD3 Airplanes

AGENCY: Federal Aviation Administration (FAA), Department of Transportation (DOT).

ACTION: Final rule.

SUMMARY: We are superseding an existing airworthiness directive (AD) that applies to the products listed above. This AD results from mandatory continuing airworthiness information (MCAI) issued by an airworthiness authority of another country to identify and correct an unsafe condition on an aviation product. The MCAI describes the unsafe condition as

Subsequent to accidents involving Fuel Tank System explosions in flight * * * and on ground, * * * Special Federal Aviation Regulation 88 (SFAR88) * * * required a safety review of the aircraft Fuel Tank System * * *.

* * * * *

Fuel Airworthiness Limitations are items arising from a systems safety analysis that have been shown to have failure mode(s) associated with an `unsafe condition' * * *. These are identified in Failure Conditions for which an unacceptable probability of ignition risk could exist if specific tasks and/or practices are not performed in accordance with the manufacturers' requirements.

* * * * *

We are issuing this AD to require actions to correct the unsafe condition on these products.

DATES: This AD becomes effective February 16, 2011.

The Director of the Federal Register approved the incorporation by reference of certain publications listed in the AD as of February 16, 2011.

The Director of the Federal Register approved the incorporation by reference of certain other publications listed in this AD as of July 21, 2006 (71 FR 34801, June 16, 2006).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We issued a supplemental notice of proposed rulemaking (NPRM) to amend 14 CFR part 39 to include an AD that would apply to the specified products. That supplemental NPRM was published in the Federal Register on August 4, 2010 (75 FR 46864), and proposed to supersede AD 2006-12-18, Amendment 39-14644 (71 FR 34801, June 16, 2006). That NPRM proposed to require revising the airplane flight manual (AFM); revising the Airworthiness Limitation (AWL) section; doing a resistance check, inspection, and jumper installation; and revising the AWL section. The MCAI states:

Subsequent to accidents involving Fuel Tank System explosions in flight * * * and on ground, the FAA published Special Federal Aviation Regulation 88 (SFAR88) in June 2001. SFAR 88 required a safety review of the aircraft Fuel Tank System to determine that the design meets the requirements of FAR [Federal Aviation Regulation] § 25.901 and § 25.981(a) and (b).

A similar regulation has been recommended by the JAA [Joint Aviation Authorities] to the European National Aviation Authorities in JAA letter 04/00/02/07/03-L024 of 3 February 2003. The review was requested to be mandated by NAA's [National Airworthiness Authorities] using JAR [Joint Aviation Requirement] § 25.901(c), § 25.1309.

In August 2005 EASA [European Aviation Safety Agency] published a policy statement on the process for developing instructions for maintenance and inspection of Fuel Tank System ignition source prevention (EASA D 2005/CPRO, www.easa.eu.int/home/cert_policy_statements_en.html) that also included the EASA expectations with regard to compliance times of the corrective actions on the unsafe and the not unsafe part of the harmonised design review results. On a global scale the TC [type certificate] holders committed themselves to the EASA published compliance dates (see EASA policy statement). The EASA policy statement has been revised in March 2006: The date of 31-12-2005 for the unsafe related actions has now been set at 01-07-2006.

Fuel Airworthiness Limitations are items arising from a systems safety analysis that have been shown to have failure mode(s) associated with an `unsafe condition' as defined in FAA's memo 2003-112-15 `SFAR 88—Mandatory Action Decision Criteria'. These are identified in Failure Conditions for which an unacceptable probability of ignition risk could exist if specific tasks and/or practices are not performed in accordance with the manufacturers' requirements.

This EASA Airworthiness Directive mandates the Fuel System Airworthiness Limitations, comprising maintenance/inspection tasks and Critical Design Control Configuration Limitations (CDCCL) for the type of aircraft, that resulted from the design reviews and the JAA recommendation and EASA policy statement mentioned above.

Revision History: PAD [proposed airworthiness directive] 06-018R1 has been issued to endorse comments received for PAD 06-018 and due to the change of the EASA policy statement on fuel tank safety on March 2006.

You may obtain further information by examining the MCAI in the AD docket.

Comments

We gave the public the opportunity to participate in developing this AD. We received no comments on the NPRM or on the determination of the cost to the public.

Explanation of Changes to This AD

We have revised Table 1 of this AD to indicate the appropriate AFM for the identified airplane models. We have also added new paragraph (l) to this AD (and have reidentified subsequent paragraphs accordingly) to give credit to operators that might have included Shorts Advance Amendment Bulletin 1/2004, dated 7/13/04, into the incorrect AFM before the effective date of this AD. We have determined that the content of Shorts Advance Amendment Bulletin 1/2004 to AFM SB.5.2 and Shorts Advance Amendment Bulletin 1/2004 to AFM SB.6.2 is identical, except for the AFM number shown on the top of the document pages. Therefore, if an operator inserted the advance amendment bulletin intended for AFM SB.5.2 into AFM SB.6.2 or vise versa, before the effective date of this AD, the intent of the AFM revision required by paragraph (g) of this AD has been met, and is, therefore, acceptable for compliance with that requirement.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information. We might also have required different actions in this AD from those in the MCAI in order to follow our FAA policies. Any such differences are described in a separate paragraph of the AD. These requirements, if any, take precedence over the actions copied from the MCAI.

Costs of Compliance

We estimate that this AD will affect 54 products of U.S. registry.

The actions that are required by AD 2006-12-18 and retained in this AD take about 41 work-hours per product, at an average labor rate of $85 per work hour. Required parts cost about $10 per product. Based on these figures, the estimated cost of the currently required actions is $3,495 per product.

We estimate that it would take about 1 work-hour per product to comply with the new basic requirements of this AD. The average labor rate is $85 per work-hour. Based on these figures, we estimate the cost of the AD on U.S. operators to be $4,590, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14644 (71 FR 34801, June 16, 2006) and adding the following new AD:

2010-24-06 Short Brothers PLC: Amendment 39-16525. Docket No. FAA-2010-0225; Directorate Identifier 2009-NM-203-AD.

Effective Date

(a) This airworthiness directive (AD) becomes effective February 16, 2011.

Affected ADs

(b) This AD supersedes AD 2006-12-18, Amendment 39-14644.

Applicability

(c) This AD applies to all Short Brothers PLC Model SD3-60 SHERPA, SD3-SHERPA, SD3-30, and SD3-60 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m) of this AD. The request should include a description of changes to the required inspections that will ensure the continued damage tolerance of the affected structure. The FAA has provided guidance for this determination in Advisory Circular (AC) 25-1529.

Subject

(d) Air Transport Association (ATA) of America Code 28: Fuel.

Reason

(e) The mandatory continuing airworthiness information (MCAI) states:

Subsequent to accidents involving Fuel Tank System explosions in flight * * * and on ground, the FAA published Special Federal Aviation Regulation 88 (SFAR88) in June 2001. SFAR 88 required a safety review of the aircraft Fuel Tank System to determine that the design meets the requirements of FAR [Federal Aviation Regulation] § 25.901 and § 25.981(a) and (b).

A similar regulation has been recommended by the JAA [Joint Aviation Authorities] to the European National Aviation Authorities in JAA letter 04/00/02/07/03-L024 of 3 February 2003. The review was requested to be mandated by NAA's [National Airworthiness Authorities] using JAR [Joint Aviation Requirement] § 25.901(c), § 25.1309.

In August 2005 EASA [European Aviation Safety Agency] published a policy statement on the process for developing instructions for maintenance and inspection of Fuel Tank System ignition source prevention (EASA D 2005/CPRO, http://www.easa.eu.int/home/cert_policy_statements_en.html) that also included the EASA expectations with regard to compliance times of the corrective actions on the unsafe and the not unsafe part of the harmonised design review results. On a global scale the TC [type certificate] holders committed themselves to the EASA published compliance dates (see EASA policy statement). The EASA policy statement has been revised in March 2006: The date of 31-12-2005 for the unsafe related actions has now been set at 01-07-2006.

Fuel Airworthiness Limitations are items arising from a systems safety analysis that have been shown to have failure mode(s) associated with an `unsafe condition' as defined in FAA's memo 2003-112-15 `SFAR 88—Mandatory Action Decision Criteria'. These are identified in Failure Conditions for which an unacceptable probability of ignition risk could exist if specific tasks and/or practices are not performed in accordance with the manufacturers' requirements.

This EASA Airworthiness Directive mandates the Fuel System Airworthiness Limitations, comprising maintenance/inspection tasks and Critical Design Control Configuration Limitations (CDCCL) for the type of aircraft, that resulted from the design reviews and the JAA recommendation and EASA policy statement mentioned above.

Revision History: PAD [proposed airworthiness directive] 06-018R1 has been issued to endorse comments received for PAD 06-018 and due to the change of the EASA policy statement on fuel tank safety on March 2006.

Compliance

(f) You are responsible for having the actions required by this AD performed within the compliance times specified, unless the actions have already been done.

Restatement of Requirements of AD 2006-12-18

Revision of Airplane Flight Manual (AFM)

(g) Within 30 days after July 21, 2006 (the effective date of AD 2006-12-18), revise the Limitations and Normal Procedures sections of the AFMs as specified in Table 1 of this AD to include the information in the applicable Shorts advance amendment bulletins as specified in Table 1 of this AD. The advance amendment bulletins address operation during icing conditions and fuel system failures. Thereafter, operate the airplane according to the limitations and procedures in the applicable advance amendment bulletin.

Note 2: The requirements of paragraph (g) of this AD may be done by inserting a copy of the applicable advance amendment bulletin into the AFM. When the applicable advance amendment bulletin has been included in general revisions of the AFM, the general revisions may be inserted into the AFM and the advance amendment bulletin may be removed, provided the relevant information in the general revision is identical to that in the advance amendment bulletin.

Table 1—AFM Revisions
Airplane model— | Shorts advance amendment bulletin— | AFM—
SD3-30 airplanes | 1/2004, dated July 13, 2004 | SBH.3.2, SBH.3.3, SBH.3.6, SBH.3.7, SBH.3.8, and SB.3.9.
SD3-60 airplanes | 1/2004, dated July 13, 2004 | SB.4.3, SB.4.6, and SB.4.8.
SD3-60 SHERPA airplanes | 1/2004, dated July 13, 2004 | SB.6.2.
SD3-SHERPA airplanes | 1/2004, dated July 13, 2004 | SB.5.2.

Revision of Airworthiness Limitation (AWL) Section

(h) Within 180 days after July 21, 2006: Revise the AWL section of the Instructions for Continued Airworthiness by incorporating airplane maintenance manual (AMM) Sections 5-20-01 and 5-20-02 as introduced by the Shorts temporary revisions (TR) specified in Table 2 of this AD into the AWL section of the AMMs for the airplane models specified in Table 2 of this AD, except as required by paragraph (j) of this AD. Thereafter, except as provided by paragraph (m)(1) of this AD, no alternative structural inspection intervals may be approved for the longitudinal skin joints in the fuselage shell.

Note 3: The requirements of paragraph (h) of this AD may be done by inserting a copy of the applicable TR into the applicable AMM. When the TR has been included in general revisions of the AMM, the general revisions may be inserted in the AMM and the TR may be removed, provided the relevant information in the general revision is identical to that in the TR.

Table 2—AMM Temporary Revisions
Airplane model— | Temporary revision— | Date— | AMM—
SD3-30 airplanes | TR330-AMM-13 | June 21, 2004 | SD3-30 AMM.
SD3-30 airplanes | TR330-AMM-14 | June 21, 2004 | SD3-30 AMM.
SD3-60 airplanes | TR360-AMM-33 | July 27, 2004 | SD3-60 AMM.
SD3-60 airplanes | TR360-AMM-34 | July 27, 2004 | SD3-60 AMM.
SD3-60 SHERPA airplanes | TRSD360S-AMM-14 | July 29, 2004 | SD3-60 SHERPA AMM.
SD3-60 SHERPA airplanes | TRSD360S-AMM-15 | July 29, 2004 | SD3-60 SHERPA AMM.
SD3-SHERPA airplanes | TRSD3S-AMM-15 | July 28, 2004 | SD3 SHERPA AMM.
SD3-SHERPA airplanes | TRSD3S-AMM-16 | July 28, 2004 | SD3 SHERPA AMM.

Resistance Check, Inspection, and Jumper Installation

(i) Within 180 days after July 21, 2006: Perform the insulation resistance check, general visual inspections, and bonding jumper wire installations; in accordance with Shorts Service Bulletin SD330-28-37, SD360-28-23, SD360 SHERPA-28-3, or SD3 SHERPA-28-2; all dated June 2004; as applicable. If any defect or damage is discovered during any inspection or check required by this AD, before further flight, repair the defect or damage using a method approved by the Manager, International Branch, ANM-116, Transport Airplane Directorate, FAA; the Civil Aviation Authority (CAA) (or its delegated agent); or EASA (or its delegated agent).

Note 4: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

New Requirements of This AD

Revision of AWL Section: New Limitations and CDCCLs

(j) Within 90 days after the effective date of this AD: Revise the AWL section of the Instructions for Continued Airworthiness by incorporating maintenance manual Sections 5-20-01 and 5-20-02 as introduced by the Bombardier and Shorts TRs specified in Table 3 of this AD into the AWL section of the maintenance manuals for the airplane models specified in Table 3 of this AD. Doing this revision terminates the requirement to incorporate the temporary revisions specified in paragraph (h) of this AD. After doing this revision the temporary revisions required by paragraph (h) of this AD may be removed.

Table 3—Newly Required Maintenance Manual Temporary Revisions
Model— | Temporary revision— | Date— | Manual—
SD3-30 airplanes | Shorts TR TR330-AMM-35 | June 6, 2006 | Shorts SD3-30 Maintenance Manual (MM).
SD3-30 airplanes | Shorts TR TR330-AMM-36 | June 6, 2006 | Shorts SD3-30 MM.
SD3-60 airplanes | Bombardier TR TR360-AMM-55 | November 11, 2005 | Bombardier SD3-60 AMM.
SD3-60 airplanes | Bombardier TR TR360-AMM-56 | November 11, 2005 | Bombardier SD3-60 AMM.
SD3-60 SHERPA airplanes | Shorts TR TRSD360S-AMM-35 | June 27, 2006 | Shorts SD3-60 SHERPA MM.
SD3-60 SHERPA airplanes | Shorts TR TRSD360S-AMM-36 | June 27, 2006 | Shorts SD3-60 SHERPA MM.
SD3-SHERPA airplanes | Shorts TR TRSD3S-AMM-36 | June 19, 2006 | Shorts SD3-SHERPA MM.
SD3-SHERPA airplanes | Shorts TR TRSD3S-AMM-37 | June 19, 2006 | Shorts SD3-SHERPA MM.

Note 5: The requirements of paragraph (j) of this AD may be done by inserting a copy of the applicable TR into the applicable maintenance manual. When the TR has been included in general revisions of the AMM, the general revisions may be inserted in the AMM and the TR may be removed, provided the relevant information in the general revision is identical to that in the TR.

(k) After accomplishing the actions specified in paragraph (j) of this AD, no alternative inspections, inspection intervals, or CDCCLs may be used unless the inspections, intervals, or CDCCLs are approved as an alternative method of compliance (AMOC), in accordance with the procedures specified in paragraph (m) of this AD.

Explanation of CDCCL Requirements

Note 6: Notwithstanding any other maintenance or operational requirements, components that have been identified as airworthy or installed on the affected airplanes before the revision of the AMM, as required by paragraph (h) or (j) of this AD, do not need to be reworked in accordance with the CDCCLs. However, once the AMM has been revised, future maintenance actions on these components must be done in accordance with the CDCCLs.

Credit for Actions Accomplished in Accordance With Other Service Information

(l) Revising the AFM, as required by paragraph (g) of this AD, by inserting Shorts Advance Amendment Bulletin 1/2004, dated 7/13/04, for Model SD3-60 Sherpa airplanes, into AFM SB.5.2; or Shorts Advance Amendment Bulletin 1/2004, dated 7/13/04, for Model SD3-sherpa airplanes, into AFM SB.6.2; before the effective date of this AD is acceptable for compliance with the AFM revision required by paragraph (g) of this AD.

FAA AD Differences

Note 7: This AD differs from the MCAI and/or service information as follows: No differences.

Other FAA AD Provisions

(m) The following provisions also apply to this AD:

(1) Alternative Methods of Compliance (AMOCs): The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(n) Refer to MCAI EASA Airworthiness Directive 2006-0198, dated July 11, 2006; Shorts Service Bulletins SD330-28-37, SD360-28-23, SD360 SHERPA-28-3, and SD3 SHERPA-28-2, all dated June 2004; and the service information listed in Tables 1, 2, and 3 of this AD; for related information.

Material Incorporated by Reference

(o) You must use the service information contained in Table 4 of this AD, as applicable, to do the actions required by this AD, unless the AD specifies otherwise.

Table 4—All Material Incorporated by Reference
Document | Date | Manual
Shorts Advance Amendment Bulletin 1/2004 | July 13, 2004 | Shorts Airplane Flight Manuals (AFMs) SBH.3.2, SBH.3.3, SBH.3.6, SBH.3.7, SBH.3.8, and SB.3.9.
Shorts Advance Amendment Bulletin 1/2004 | July 13, 2004 | Shorts AFMs SB.4.3, SB.4.6, and SB.4.8.
Shorts Advance Amendment Bulletin 1/2004 | July 13, 2004 | Shorts AFM SB.5.2.
Shorts Advance Amendment Bulletin 1/2004 | July 13, 2004 | Shorts AFM SB.6.2.
Shorts TR330-AMM-13 | June 21, 2004 | Shorts SD3-30 Airplane Maintenance Manual (AMM).
Shorts TR330-AMM-14 | June 21, 2004 | Shorts SD3-30 AMM.
Shorts TR360-AMM-33 | July 27, 2004 | Shorts SD3-60 AMM.
Shorts TR360-AMM-34 | July 27, 2004 | Shorts SD3-60 AMM.
Shorts TRSD360S-AMM-14 | July 29, 2004 | Shorts SD3-60 SHERPA AMM.
Shorts TRSD360S-AMM-15 | July 29, 2004 | Shorts SD3-60 SHERPA AMM.
Shorts TRSD3S-AMM-15 | July 28, 2004 | Shorts SD3 SHERPA AMM.
Shorts TRSD3S-AMM-16 | July 28, 2004 | Shorts SD3 SHERPA AMM.
Shorts Service Bulletin SD330-28-37 | June 2004 | None.
Shorts Service Bulletin SD360-28-23 | June 2004 | None.
Shorts Service Bulletin SD360 SHERPA-28-3 | June 2004 | None.
Shorts Service Bulletin SD3 SHERPA-28-2 | June 2004 | None.
Shorts TR TR330-AMM-35 | June 6, 2006 | Shorts SD3-30 Maintenance Manual (MM).
Shorts TR TR330-AMM-36 | June 6, 2006 | Shorts SD3-30 MM.
Bombardier TR TR360-AMM-55 | November 11, 2005 | Bombardier SD3-60 AMM.
Bombardier TR TR360-AMM-56 | November 11, 2005 | Bombardier SD3-60 AMM.
Shorts TR TRSD360S-AMM-35 | June 27, 2006 | Shorts SD3-60 SHERPA MM.
Shorts TR TRSD360S-AMM-36 | June 27, 2006 | Shorts SD3-60 SHERPA MM.
Shorts TR TRSD3S-AMM-36 | June 19, 2006 | Shorts SD3-SHERPA MM.
Shorts TR TRSD3S-AMM-37 | June 19, 2006 | Shorts SD3-SHERPA MM.

(1) The Director of the Federal Register approved the incorporation by reference of the service information contained in Table 5 of this AD under 5 U.S.C. 552(a) and 1 CFR part 51.

Table 5—New Material Incorporated by Reference
Document | Date | Manual
Shorts TR TR330-AMM-35 | June 6, 2006 | Shorts SD3-30 MM.
Shorts TR TR330-AMM-36 | June 6, 2006 | Shorts SD3-30 MM.
Bombardier TR TR360-AMM-55 | November 11, 2005 | Bombardier SD3-60 AMM.
Bombardier TR TR360-AMM-56 | November 11, 2005 | Bombardier SD3-60 AMM.
Shorts TR TRSD360S-AMM-35 | June 27, 2006 | Shorts SD3-60 SHERPA MM.
Shorts TR TRSD360S-AMM-36 | June 27, 2006 | Shorts SD3-60 SHERPA MM.
Shorts TR TRSD3S-AMM-36 | June 19, 2006 | Shorts SD3-SHERPA MM.
Shorts TR TRSD3S-AMM-37 | June 19, 2006 | Shorts SD3-SHERPA MM.

(2) The Director of the Federal Register previously approved the incorporation by reference of the service information contained in Table 6 of this AD on July 21, 2006 (71 FR 34801, June 16, 2006).

Table 6—Material Previously Incorporated by Reference
Document | Date | Manual
Shorts Advance Amendment Bulletin 1/2004 | July 13, 2004 | Shorts Airplane Flight Manuals (AFMs) SBH.3.2, SBH.3.3, SBH.3.6, SBH.3.7, SBH.3.8, and SB.3.9.
Shorts Advance Amendment Bulletin 1/2004 | July 13, 2004 | Shorts AFMs SB.4.3, SB.4.6, and SB.4.8.
Shorts Advance Amendment Bulletin 1/2004 | July 13, 2004 | Shorts AFM SB.5.2.
Shorts Advance Amendment Bulletin 1/2004 | July 13, 2004 | Shorts AFM SB.6.2.
Shorts Temporary Revision TR330-AMM-13 | June 21, 2004 | SD3-30 AMM.
Shorts Temporary Revision TR330-AMM-14 | June 21, 2004 | SD3-30 AMM.
Shorts Temporary Revision TR360-AMM-33 | July 27, 2004 | SD3-60 AMM.
Shorts Temporary Revision TR360-AMM-34 | July 27, 2004 | SD3-60 AMM.
Shorts Temporary Revision TRSD360S-AMM-14 | July 29, 2004 | SD3-60 SHERPA AMM.
Shorts Temporary Revision TRSD360S-AMM-15 | July 29, 2004 | SD3-60 SHERPA AMM.
Shorts Temporary Revision TRSD3S-AMM-15 | July 28, 2004 | SD3 SHERPA AMM.
Shorts Temporary Revision TRSD3S-AMM-16 | July 28, 2004 | SD3 SHERPA AMM.
Shorts Service Bulletin SD330-28-37 | June 2004 | None.
Shorts Service Bulletin SD360-28-23 | June 2004 | None.
Shorts Service Bulletin SD360 SHERPA-28-3 | June 2004 | None.
Shorts Service Bulletin SD3 SHERPA-28-2 | June 2004 | None.

(3) For service information identified in this AD, contact Short Brothers PLC, Airworthiness, P.O. Box 241, Airport Road, Belfast, BT3 9DZ Northern Ireland; telephone +44(0)2890-462469; fax +44(0)2890-468444; e-mail michael.mulholland@aero.bombardier.com; Internet http://www.bombardier.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on November 10, 2010.
Jeffrey E. Duven,
Acting Manager, Transport Airplane Directorate, Aircraft Certification Service.

[FR Doc. 2011-30 Filed 1-11-11; 8:45 am]

BILLING CODE 4910-13-P